DEPARTMENT OF STATE

[Public Notice: 7575]

Public Meeting in Midwest City, OK, for the Proposed Keystone XL Project; Correction

AGENCY: Department of State.

ACTION: Notice of correction for time of public meeting in Midwest City, Oklahoma for the proposed Keystone XL project.

;

SUMMARY: On August 26, 2011, an announcement for public meetings for the proposed Keystone XL project was published in the Federal Register on pages 53525 and 53526 (volume 76, number 166). The referenced notice is corrected as to the meeting times:

Friday, September 30, 2011.

Reed Center Exhibition Hall, 5800 Will Rogers Road, Midwest City, Oklahoma 73110, 4:30-10 p.m.

FOR FURTHER INFORMATION CONTACT: A comprehensive description of the proposed Project and up-to-date information regarding the public meetings are available at http://www.keystonepipeline-xl.state.gov. The final Environmental Impact Statement, including a summary of public comments received during two prior public comment periods, will also be available online.

Dated: August 30, 2011.
Issued in Washington, DC, on September 2, 2011.
John E. Thompson,
Acting Director, Bureau of Oceans and International Environmental and Scientific Affairs/Office of Environmental Policy, U.S. Department of State.

[FR Doc. 2011-22690 Filed 9-2-11; 8:45 am]

BILLING CODE 4710-09-P